DEPARTMENT OF HEALTH AND HUMAN SERVICES

Centers for Disease Control and Prevention

Mine Safety and Health Research Advisory Committee Meeting: Cancelled.

Name: Mine Safety and Health Research Advisory Committee (MSHRAC) Meeting—Cancelled.

Time and Date: 11 a.m.-2 p.m., May 22, 2002.

Place: Teleconference call will originate at the Centers for Disease Control and Prevention, National Institutes for Occupational Safety and Health, Atlanta, Georgia. Please see SUPPLEMENTARY INFORMATION for details on accessing the teleconference.

Status: Meeting cancelled. Published in the Federal Register: April 17, 2002, Volume 67, Number 74, page 18911.

FOR FURTHER INFORMATION CONTACT: Dr. Lewis Wade, Executive Secretary, MSHRAC, NIOSH, CDC, HHHB HHH 715H, P12, Washington, DC 20201-0004, telephone 202/401-2192.

The Director, Management Analysis and Services Office, has been delegated the authority to sign Federal Register notices pertaining to announcements of meetings and other committee management activities for both the Centers for Disease Control and Prevention and the Agency for Toxic Substances and Disease Registry.

Dated: May 20, 2002.
John C. Burckhardt,
Acting Director, Management Analysis and Services Office, Centers for Disease Control and Prevention.

[FR Doc. 02-13073 Filed 5-23-02; 8:45 am]

BILLING CODE 4163-19-P